DEPARTMENT OF ENERGY

Federal Energy Regulatory Commission

Combined Notice of Filings #1

Take notice that the Commission received the following electric corporate filings:

Docket Numbers: EC25-61-000.

Applicants: Inspire Energy Holdings, LLC.

Description: Application for Authorization Under Section 203 of the Federal Power Act of Inspire Energy Holdings, LLC.

Filed Date: 3/5/25.

Accession Number: 20250305-5183.

Comment Date: 5 p.m. ET 3/26/25.

Take notice that the Commission received the following exempt wholesale generator filings:

Docket Numbers: EG25-181-000.

Applicants: Garnet Mesa Solar LLC.

Description: Garnet Mesa Solar LLC submits Notice of Self-Certification of Exempt Wholesale Generator Status.

Filed Date: 3/5/25.

Accession Number: 20250305-5136.

Comment Date: 5 p.m. ET 3/26/25.

Docket Numbers: EG25-182-000.

Applicants: King Mountain Solar, LLC.

Description: King Mountain Solar, LLC submits Notice of Self-Certification of Exempt Wholesale Generator Status.

Filed Date: 3/5/25.

Accession Number: 20250305-5221.

Comment Date: 5 p.m. ET 3/26/25.

Docket Numbers: EG25-183-000.

Applicants: Kaufman Solar, LLC.

Description: Kaufman Solar, LLC submits Notice of Self-Certification of Exempt Wholesale Generator Status.

Filed Date: 3/5/25.

Accession Number: 20250305-5232.

Comment Date: 5 p.m. ET 3/26/25.

Docket Numbers: EG25-184-000.

Applicants: Funston Solar, LLC.

Description: Funston Solar, LLC submits Notice of Self-Certification of Exempt Wholesale Generator Status.

Filed Date: 3/5/25.

Accession Number: 20250305-5238.

Comment Date: 5 p.m. ET 3/26/25.

Take notice that the Commission received the following Complaints and Compliance filings in EL Dockets:

Docket Numbers: EL25-64-000.

Applicants: Unison Energy, LLC, Tiger Infrastructure Partners Fund III AIV U LP.

Description: Petition for Declaratory Order of Unison Energy, LLC, et al.

Filed Date: 2/28/25.

Accession Number: 20250228-5488.

Comment Date: 5 p.m. ET 3/31/25.

Take notice that the Commission received the following electric rate filings:

Docket Numbers: ER24-754-002.

Applicants: Baltimore Gas and Electric Company.

Description: Compliance filing: BGE submits Compliance Filing to be effective 3/1/2024.

Filed Date: 3/5/25.

Accession Number: 20250305-5112.

Comment Date: 5 p.m. ET 3/26/25.

Docket Numbers: ER25-1501-000.

Applicants: PJM Interconnection, L.L.C.

Description: § 205(d) Rate Filing: Proposed Tariff Revisions for Generator Deactivation to be effective 5/5/2025.

Filed Date: 3/4/25.

Accession Number: 20250304-5190.

Comment Date: 5 p.m. ET 3/25/25.

Docket Numbers: ER25-1503-000.

Applicants: ISO New England Inc., Versant Power.

Description: § 205(d) Rate Filing: Versant Power submits tariff filing per 35.13(a)(2)(iii: Versant Power; Filing to Strike Certain Service Schedules in Sch 21-VP to be effective 5/5/2025.

Filed Date: 3/5/25.

Accession Number: 20250305-5073.

Comment Date: 5 p.m. ET 3/26/25.

Docket Numbers: ER25-1504-000.

Applicants: PJM Interconnection, L.L.C.

Description: § 205(d) Rate Filing: Original GIA Service Agreement No. 7580; Project Identifier No. AF2-371/AG1-351 to be effective 2/3/2025.

Filed Date: 3/5/25.

Accession Number: 20250305-5114.

Comment Date: 5 p.m. ET 3/26/25.

Docket Numbers: ER25-1505-000.

Applicants: PJM Interconnection, L.L.C.

Description: § 205(d) Rate Filing: Original CSA Service Agreement No. 7581; Project Identifier No. AF2-371/AG1-351 to be effective 2/3/2025.

Filed Date: 3/5/25.

Accession Number: 20250305-5116.

Comment Date: 5 p.m. ET 3/26/25.

Docket Numbers: ER25-1506-000.

Applicants: Cube Yadkin Transmission LLC.

Description: Compliance filing: Order No. 904 Compliance Filing to be effective 5/5/2025.

Filed Date: 3/5/25.

Accession Number: 20250305-5159.

Comment Date: 5 p.m. ET 3/26/25.

Docket Numbers: ER25-1507-000.

Applicants: Alabama Power Company, Georgia Power Company, Mississippi Power Company.

Description: Tariff Amendment: Alabama Power Company submits tariff filing per 35.15: Escambia County Solar (Hybrid Project) LGIA Termination Filing to be effective 3/5/2025.

Filed Date: 3/5/25.

Accession Number: 20250305-5174.

Comment Date: 5 p.m. ET 3/26/25.

Docket Numbers: ER25-1508-000.

Applicants: Alabama Power Company, Georgia Power Company, Mississippi Power Company.

Description: Tariff Amendment: Alabama Power Company submits tariff filing per 35.15: Aragon Energy Storage LGIA Termination Filing to be effective 3/5/2025.

Filed Date: 3/5/25.

Accession Number: 20250305-5175

Comment Date: 5 p.m. ET 3/26/25.

Docket Numbers: ER25-1509-000.

Applicants: Louisville Gas and Electric Company.

Description: § 205(d) Rate Filing: LGE-KU KYMEA Engineering and Procurement Agreement to be effective 5/5/2025.

Filed Date: 3/5/25.

Accession Number: 20250305-5180.

Comment Date: 5 p.m. ET 3/26/25.

Docket Numbers: ER25-1510-000.

Applicants: Kentucky Utilities Company

Description: § 205(d) Rate Filing: KYMEA Engineering and Procurement Agreement to be effective 5/5/2025.

Filed Date: 3/5/25.

Accession Number: 20250305-5198.

Comment Date: 5 p.m. ET 3/26/25.

Docket Numbers: ER25-1511-000.

Applicants: Midcontinent Independent System Operator, Inc.

Description: § 205(d) Rate Filing: 2025-03-05_Removal of First Contingency Transfer Analysis Requirement Att C to be effective 5/5/2025.

Filed Date: 3/5/25.

Accession Number: 20250305-5207.

Comment Date: 5 p.m. ET 3/26/25.

Docket Numbers: ER25-1512-000.

Applicants: PJM Interconnection, L.L.C.

Description: § 205(d) Rate Filing: Original GIA, Service Agreement No. 7578; AF2-316 to be effective 2/3/2025.

Filed Date: 3/5/25.

Accession Number: 20250305-5234.

Comment Date: 5 p.m. ET 3/26/25.

Docket Numbers: ER25-1513-000.

Applicants: Tucson Electric Power Company.

Description: § 205(d) Rate Filing: Rate Schedule No. 326—Exhibit B to be effective 3/6/2025.

Filed Date: 3/5/25.

Accession Number: 20250305-5239.

Comment Date: 5 p.m. ET 3/26/25.

Docket Numbers: ER25-1514-000.

Applicants: Tri-State Generation and Transmission Association, Inc.

Description: § 205(d) Rate Filing: Amendment to Service Agreement No. 864 to be effective 2/5/2025.

Filed Date: 3/5/25.

Accession Number: 20250305-5244.

Comment Date: 5 p.m. ET 3/26/25.

Docket Numbers: ER25-1515-000.

Applicants: Tri-State Generation and Transmission Association, Inc.

Description: Tariff Amendment: Notice of Cancellation of Rate Schedule FERC No. 339 to be effective 2/11/2025.

Filed Date: 3/5/25.

Accession Number: 20250305-5246.

Comment Date: 5 p.m. ET 3/26/25.

Docket Numbers: ER25-1516-000.

Applicants: PJM Interconnection, L.L.C.

Description: § 205(d) Rate Filing: Original GIA SA No 7579; AE2-214/AF1-275 & Cancellation ISA SA No 6803; AE2-214 to be effective 2/3/2025.

Filed Date: 3/5/25.

Accession Number: 20250305-5255.

Comment Date: 5 p.m. ET 3/26/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 5, 2025.
Carlos D. Clay,
Deputy Secretary.

[FR Doc. 2025-03840 Filed 3-10-25; 8:45 am]

BILLING CODE 6717-01-P